DEPARTMENT OF TRANSPORTATION

Federal Aviation Administration

Approval of Noise Compatibility Program for San Diego International, San Diego, CA

AGENCY: Federal Aviation Administration, DOT.

ACTION: Notice .

SUMMARY: The Federal Aviation Administration (FAA) announces its findings on the noise compatibility program submitted by San Diego Regional Airport Authority under the provisions of 49 U.S.C. 47501 et seq. (formerly the Aviation Safety and Noise Abatement Act, hereinafter referred to as “the Act”) and 14 Code of Federal Regulations (CFR) part 150 (hereinafter referred to as “Part 150”). On November 10, 2009, the FAA determined that the noise exposure maps submitted by San Diego Regional Airport Authority under Part 150 were in compliance with applicable requirements. On June 30, 2011, the FAA approved the San Diego International Airport noise compatibility program. Fourteen (14) of the nineteen (19) total number of recommendations of the program were approved. No program elements relating to new or revised flight procedures for noise abatement were proposed by the airport operator.

DATES: Effective Date: The effective date of the FAA's approval of the Noise Compatibility Program for San Diego International Airport is June 30, 2011.

FOR FURTHER INFORMATION CONTACT: Victor Globa, Environmental Protection Specialist, Federal Aviation Administration, Los Angeles Airports District Office, Mailing Address: P.O. Box 92007, Los Angeles, California 90009-2007. Street Address: 15000 Aviation Boulevard, Lawndale, California 90261. Telephone: 310/725-3637. Documents reflecting this FAA action may be reviewed at this same location.

SUPPLEMENTARY INFORMATION: This notice announces that the FAA has given its overall approval to the Noise Compatibility Program for San Diego International Airport, effective June 30, 2011.

Under section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with part 150 is a local program, not a Federal program. The FAA does not substitute its judgment for that of the airport proprietor with respect to which measures should be recommended for action. The FAA's approval or disapproval of Part 150 program recommendations is measured according to the standards expressed in part 150 and the Act and is limited to the following determinations:

a. The Noise Compatibility Program was developed in accordance with the provisions and procedures of Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in part 150, section 150.5. Approval is not a determination concerning the acceptability of land uses under Federal, state, or local law. Approval does not by itself constitute an FAA implementing action. A request for Federal action or approval to implement specific noise compatibility measures may be required. Prior to an FAA decision on a request to implement the action, an environmental review of the proposed action may be required. Approval does not constitute a commitment by the FAA to financially assist in the implementation of the program nor a determination that all measures covered by the program are eligible for grant-in-aid funding from the FAA. Where federal funding is sought, requests for project grants must be submitted to the FAA Los Angeles Airports District Office in the Western-Pacific Region.

The San Diego International Airport study contains a proposed noise compatibility program comprised of actions designed for phased implementation by airport management and adjacent jurisdictions from June 21, 2010 to the year 2014. It was requested that the FAA evaluate and approve this material as a Noise Compatibility Program as described in section 47504 of the Act. The FAA began its review of the program on January 5, 2011, and was required by a provision of the Act to approve or disapprove the program within 180 days (other than the use of new or modified flight procedures for noise control). Failure to approve or disapprove such program within the 180-day period shall be deemed to be an approval of such program.

The submitted program contained 19 proposed actions for noise abatement, noise mitigation, land use planning and program management on and off the airport. The FAA completed its review and determined that the procedural and substantive requirements of the Act and part 150 have been satisfied. The overall program was approved by the FAA, effective June 30, 2011.

FAA approval was granted for fourteen (14) specific program measures. The approved measures included such items as: Sound Attenuate Additional Eligible Non-Residential Noise Sensitive Receptor Buildings for noncompatible development that were constructed or existed before October 1, 1998; Sound Attenuate Eligible Residential Units has been approved for homes or noncompatible development that were constructed or existed before October 1, 1998; Urge the City of San Diego to Prohibit New Incompatible Land Use Development was approved since the Federal government has no control over local land use planning and this measure is within the authority of the San Diego Regional Airport Authority and local planning jurisdictions; Continue to Encourage City Participation in the Compatibility Planning Process was approved since the Federal government has no control over local land use planning and this measure is within the authority of the San Diego Regional Airport Authority and local planning jurisdictions; Continue to Serve as the San Diego County Airport Land Use Commission was approved since the Federal government has no control over local land use planning and this measure is within the authority of the San Diego Regional Airport Authority and local planning jurisdictions, (Approval of this measure does not extend to or necessarily endorse decisions of the Airport Land Use Commission.); Maintain Existing Noise Information Department was approved; Continue to Maintain and Improve the Aircraft Noise and Operations Monitoring System (ANOMS) was approved for purposes of part 150, (Approval of this measure does not obligate the FAA to participate in funding the acquisition or installation of the permanent noise monitors and associated equipment. For the purpose of aviation safety, this approval does not extend to the use of monitoring equipment for enforcement purposes by in-situ measurement of any pre-set noise thresholds.); Design and Implement a Fly Quiet Program was approved since this measure is within the jurisdiction of the airport management, (This approval does not imply approval of any enforcement actions to ensure compliance with flight procedures by the Airport Sponsor. Any recommended change to existing flight procedures not approved in this NCP and any flight procedures or flight tracks not already in place at SAN are disapproved for inclusion in the handbook. Such changes would need to be separately reviewed, for reasons of aviation safety and efficiency, by the FAA. Noise mitigation measures must be accompanied by an analysis demonstrating their noise benefits. Changes in flight procedures normally also need appropriate environmental analysis. Any new procedures proposed for noise abatement at SAN may not be implemented prior to a study to determine whether they can be implemented safely and efficiently, and whether they are noise beneficial. Wording for publications and signage, and location of any on-airport signage, must be coordinated with the FAA before final issuance. Approval of this measure does not obligate the FAA to participate in funding the acquisition or installation of the permanent noise monitors and associated equipment.); Maintain Airport Noise Advisory Committee was approved; The Noise Information Officer will Meet on a Regular Basis with Representatives from Commercial Airlines and General Aviation was approved but does not require the representatives to meet; Deliver Airport Use Regulations to Each Airline was approved but does not require the air carriers to meet; Continue to Provide Noise and Aircraft Operations Information in the Quarterly Noise Reports was approved, (For the purpose of aviation safety, this approval does not extend to the use of monitoring equipment for enforcement purposes by in-situ measurement of any pre-set noise thresholds.); Revise the Noise Exposure Map was approved; and, Revise the Noise Compatibility Program was approved and this approval does not extend to potential regulatory action affecting general aviation and commuter aircraft operations or to enforcement structures not otherwise specifically approved by the FAA.

FAA disapproved five (5) specific program measures. The disapproved measures included: Develop and Implement Left Turn “Over-the-Bay” Departure Route was disapproved since the analysis shows no effect or benefit on the Community Noise Equivalent Level (CNEL) 65 dB contour and the measure may adversely impact operational safety and efficiency; Encourage the FAA and Airlines Operating at SAN to Use Continuous Descent Approaches for Arrivals to Runway 27 was disapproved since the analysis does not demonstrate the measure's noise benefits on the 65 dB CNEL contour; Maintain Westerly Runway Heading (275-degrees) or 290-degree Heading for Runway 27 Departures Until One and One Half Miles West of the Shoreline, Weather, Airspace, and Safety Permitting was disapproved since the analysis does not demonstrate the measure's noise benefits on the 65 dB CNEL contour; Sound Attenuate Additional Eligible Residential Units Based on Hill Effects Behind the Start of Takeoff was disapproved for purposes of part 150 since additional information and analysis is necessary to justify the measure's noise benefits; and, Cooperate with Public Agencies Concerning Air Service was disapproved for purposes of part 150 since the Federal government has no control over local land use planning and this measure is within the authority of the San Diego Regional Airport Authority and local planning jurisdictions.

These determinations are set forth in detail in a Record of Approval signed by the Manager, Airports Division (AWP-600) on June 30, 2011. The Record of Approval, as well as other evaluation materials and the documents comprising the submittal, are available for review at the FAA office listed above and at the administrative offices of the San Diego County Regional Airport Authority.

The Record of Approval also will be available on-line at: http://www.faa.gov/airports/environmental/airport_noise/part_150/states/.

Issued in Hawthorne on July 15, 2011.
Mark A. McClardy,
Manager, Airports Division, Western-Pacific Region .

[FR Doc. 2011-19499 Filed 8-1-11; 8:45 am]

BILLING CODE 4910-13-P